DEPARTMENT OF ENERGY

Federal Energy Regulatory Commission

[Project No. 2639-028]

Northern States Power Company—Wisconsin; Notice of Waiver Period for Water Quality Certification Application

On September 11, 2023, Northern States Power Company—Wisconsin submitted to the Federal Energy Regulatory Commission (Commission) a copy of its application for a Clean Water Act section 401(a)(1) water quality certification filed with the Wisconsin Department of Natural Resources (Wisconsin DNR), in conjunction with the above captioned project. Pursuant to section 401 of the Clean Water Act ¹ and section 4.34(b)(5) of the Commission's regulations,² a State certifying agency is deemed to have waived its certifying authority if it fails or refuses to act on a certification request within a reasonable period of time, which is one year after the date the certification request was received. Accordingly, we hereby notify Wisconsin DNR of the following:

¹ 33 U.S.C. 1341(a)(1).

² 18 CFR 4.34(b)(5) (2022).

Date of Receipt of the Certification Request: September 11, 2023.

Reasonable Period of Time to Act on the Certification Request: One year (September 11, 2024).

If Wisconsin DNR fails or refuses to act on the water quality certification request on or before the above date, then the agency certifying authority is deemed waived pursuant to section 401(a)(1) of the Clean Water Act, 33 U.S.C. 1341(a)(1).

Dated: September 14, 2023.
Kimberly D. Bose,
Secretary.

[FR Doc. 2023-20358 Filed 9-19-23; 8:45 am]

BILLING CODE 6717-01-P